DEPARTMENT OF THE INTERIOR

National Park Service

Environmental Statements; Availability Etc: Voyageurs National Park, MN

AGENCY: National Park Service, Interior.

ACTION: Notice of extension of public comment period for the draft general management plan/visitor use and facilities plan and the draft environmental impact statement for Voyageurs National Park, Minnesota.

SUMMARY: Pursuant to section 102(2) of the National Environmental Policy Act of 1969, the National Park Service has prepared a draft general management plan/Visitor Use and facilities plan and a draft environmental impact statement (DGMP/DEIS) for Voyageurs National Park. Pursuant to public request, the comment period for this document has been extended an additional 30-days.

DATES: The comment period will now end on September 22, 2000. All written comments should be postmarked by this date.

FOR FURTHER INFORMATION CONTACT: Kathleen Przybylski, Voyageurs National Park, 3131 Highway 53, International Falls, MN 56649, telephone: 218-283-9821. E-mail: Kathleen_Przybylski@nps.gov.

SUPPLEMENTARY INFORMATION: You may mail comments on the DMGP/DEIS to: General Management Plan, Voyageurs National Park, 3131 Highway 53, International Falls, MN 56649. You also may comment via e-mail to Kathleen_Przybylski@nps.gov.

The purpose of the general management plan/visitor use and facilities plan is to set forth the basic management philosophy for the park and to provide the strategies for addressing issues and achieving identified management objectives. The DGMP/DEIS describes and analyzes the environmental impacts of a proposed action and two action alternatives for the future management direction of the park. A no action alternative is also evaluated.

Dated: August 8, 2000.
David N. Given,
Acting Director, Midwest Region.

[FR Doc. 00-20796 Filed 8-15-00; 8:45 am]

BILLING CODE 4310-70-P